DEPARTMENT OF DEFENSE

Department of the Army

[Docket ID: USA-2023-HQ-0015]

Privacy Act of 1974; System of Records

AGENCY: Department of the Army, Department of Defense (DoD).

ACTION: Notice of a new system of records.

SUMMARY: In accordance with the Privacy Act of 1974, the Department of the Army proposes to establish a new system of records titled, Army Safety Management Program Records (ASMPR)-A0385-1 DAS. It supports the management and prevention of work-related illnesses and injuries by individuals engaged in DoD work-related activities while on or off the worksite. The system automates accidents, mishaps, safety inspections, and workplace hazard investigation data collection, identifies causal factors and potentially unsafe practices or conditions, and makes recommendations for corrective actions to prevent recurrence and reduce hazardous conditions. Additionally, DoD is issuing a Notice of Proposed Rulemaking, which proposes to exempt this system of records from certain provisions of the Privacy Act, elsewhere in today's issue of the Federal Register.

DATES: This system of records is effective upon publication; however, comments on the Routine Uses will be accepted on or before November 24, 2023. The Routine Uses are effective at the close of the comment period.

ADDRESSES: You may submit comments, identified by docket number and title, by any of the following methods:

* Federal Rulemaking Portal: https://www.regulations.gov. Follow the instructions for submitting comments.

* Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Joyce Luton, Department of the Army, Records Management Directorate, Attention: Army Privacy and Civil Liberties Office, 9301 Chapek Road (Building 1458), Fort Belvoir, VA 22060-5605, or by calling (571) 515-0213.

SUPPLEMENTARY INFORMATION:

I. Background

The Army Safety Management Information Program Records (ASMPR) documents safety mishaps and occupational incidents that require a safety investigation or an occupational health report as mandated by Federal law or DoD and Army policies. The system of records supports the operation of the Army's safety and occupational health program, which seeks to protect personnel from accidental death, injury, or occupational illness and apply risk management strategies to eliminate occupational injury or illness and loss of mission capability and resources, both on and off duty. This system of records describes Army's collection, use, and maintenance of records about an individual associated with accidents, mishaps, safety inspections, workplace hazards, and general risk management.

DoD SORNs have been published in the Federal Register and are available from the address in FOR FURTHER INFORMATION CONTACT or at the Defense Privacy, Civil Liberties, and Freedom of Information Directorate website at https://dpcld.defense.gov.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, DoD has provided a report of this system of records to the OMB and to Congress.

Dated: October 17, 2023.
Aaron T. Siegel,
Alternate OSD Federal Register Liaison Officer, Department of Defense.

SYSTEM NAME AND NUMBER:

Army Safety Management Program Records (ASMPR)-A0385-1 DAS.

SECURITY CLASSIFICATION:

Unclassified.

SYSTEM LOCATION:

U.S. Army Combat Readiness Center 4905 5th Ave, Fort Rucker, AL 36362.

SYSTEM MANAGER(S):

The system manager is Commander, U.S. Army Combat Readiness Center, 4905 5th Avenue, Fort Rucker, AL 36362-5363, 334-255-3819.

AUTHORITY FOR MAINTENANCE OF THE SYSTEM:

10 U.S.C. 113, Secretary of Defense; 10 U.S.C. 7013, Secretary of the Army; 5 U.S.C. 7902, Safety Programs; Executive Order (E.O.) 12196, Occupational Safety and Health Programs for Federal employees; DoD Instruction (DoDI) 6055.01, DoD Safety and Occupational Health (SOH) Program; DoDI 6055.05, Occupational and Environmental Health (OEH); DoDI 6055.07, Mishap Notification, Investigation, Reporting, and Record Keeping; Army Regulation 385-10, Army Safety Program; and E.O. 9397 (SSN), as amended.

PURPOSE(S) OF THE SYSTEM:

A. To investigate injuries and illnesses due to work-related activities, support the prevention and management of such injuries and illnesses, and reduce their adverse impact on operational readiness.

B. To support the automation and integration safety and occupational health into the Department of Army's overall management system and to ensure continuous improvement of safety and occupational health performance throughout the agency.

C. To collect and analyze safety and occupational health experience and exposure data for further study, and train personnel in safety and health.

D. To document and correlate relationships between planned actions and resultant accidents, mishaps, safety inspections, and workplace hazards; and to support prevention efforts.

CATEGORIES OF INDIVIDUALS COVERED BY THE SYSTEM:

(1) Individuals who suffer work-related injuries or illness caused by an accident, mishap, or hazard during work-related activities while on or off a DoD worksite, where there is a nexus to Department of Army personnel, activities, or facilities/equipment; (2) individuals found to have contributed to the accident, mishap, or hazard.

CATEGORIES OF RECORDS IN THE SYSTEM:

A. For both categories of individuals, the system is likely to include Personal Information such as name, Social Security Number (SSN), DoD ID number, date of birth, gender, home address, email address, phone numbers, marital status, language; employment information, to include pay grade, job title, military unit destination, branch and location, educational status, deployment date.

B. For the category of individuals who have suffered injury or illness, the system is likely to include date of injury or illness, diagnosis, photographs, reports (police or casualty) and witness statements, investigation board findings and recommendations, mishap-related injuries recorded in military medical treatment records, and other records relevant to evaluating or investigating the illness, injury, or incident.

C. For category of individuals who were found to have caused the mishap or accident, the system is likely to include training and licensures pertinent to the operation of the specific vehicle or equipment involved, alcohol use, blood alcohol level if applicable, drug use, activity, fatigue factors, mistake(s) that contributed, personal protective equipment provided or used, and other records relevant to evaluating or investigating the incident.

Note 1. SSNs are no longer collected or retained for any individual involved in a mishap or accident. The SSN is only maintained in legacy mishap reports created prior to October 5, 2020.

Note 2. Privileged Safety Information, as defined in DoDI 6055.07, is not included in this system of records.

Note 3. General training records maintained in Army Safety Management Information System (ASMIS) that are not incorporated into a mishap or accident file are covered by DoD-0005, Defense Training Records SORN.

RECORD SOURCE CATEGORIES:

Records and information stored in this system of records are obtained from:

A. Individuals, medical examiners, physicians or other medical service providers, supervisors, worker's compensation program records, and other relevant sources to supplement information reported directly by injured personnel.

B. Incident and investigative reports, to include accident/casualty reports, and military aviation records.

C. Other DoD databases, to include: Defense Manpower Data Center, Defense Civilian Personnel Data System, Defense Enrollment Eligibility Reporting System (DEERS), Defense Casualty Information Processing System, Reserve Component Automation System—Safety & Occupational Health, and Defense Health Agency E-Commerce System.

ROUTINE USES OF RECORDS MAINTAINED IN THE SYSTEM, INCLUDING CATEGORIES OF USERS AND PURPOSES OF SUCH USES:

In addition to those disclosures generally permitted under 5 U.S.C. 552a(b) of the Privacy Act of 1974, as amended, all or a portion of the records or information contained herein may specifically be disclosed outside the DoD as a routine use pursuant to 5 U.S.C. 552a(b)(3) as follows:

A. To contractors, grantees, experts, consultants, students, and others performing or working on a contract, service, grant, cooperative agreement, or other assignment for the Federal Government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To another Federal, State or local agency for the purpose of comparing to the agency's system of records or to non-Federal records, in coordination with an Office of Inspector General in conducting an audit, investigation, inspection, evaluation, or some other review as authorized by the Inspector General Act of 1978, as amended.

J. To such recipients and under such circumstances and procedures as are mandated by Federal statute or treaty.

K. To the U.S. Department of Labor, the Federal Aviation Administration, the National Transportation Safety Board, and state or local government organizations for use in a combined effort of accident prevention and post-incident analysis of factual data.

POLICIES AND PRACTICES FOR STORAGE OF RECORDS:

Records may be stored electronically or on paper in secure facilities in a locked drawer behind a locked door. The records may be stored on magnetic disc, tape, or digital media or in agency-owned cloud environments.

POLICIES AND PRACTICES FOR RETRIEVAL OF RECORDS:

Records may be retrieved by the individual's name, DoD ID number, and/or DoD email address.

POLICIES AND PRACTICES FOR RETENTIO AND DISPOSAL OF RECORDS:

Records are retained for 50 years then destroyed.

ADMINISTRATIVE, TECHNICAL, AND PHYSICAL SAFEGUARDS:

Records are maintained in controlled areas accessible only to authorized personnel. Access to personal information is further restricted by the use of Common Access Cards and user ID/passwords. Paper records are maintained in a controlled facility where physical entry is restricted by the use of locks, a card access control system, staffed reception areas and cameras inside and outside which monitor all doors. Technical controls in place include user identification and passwords, an Intrusion Detection System, encryption, firewalls, Virtual Private Networks and Public Key Infrastructure Certificates. Administrative controls in place include periodic security audits, ensuring only authorized personnel have access to personally identifiable information, encryption of backups containing sensitive data, and securing backups off-site.

RECORD ACCESS PROCEDURES:

Individuals seeking access to their records should follow the procedures in 32 CFR part 310. Individuals should address written inquiries to the FOIA Office, Commander, U.S. Army Combat Readiness Center, 4905 5th Avenue, Fort Rucker, AL 36362-5363. Signed written requests should contain the name and number of this system of records notice along with the full name, current address, and email address of the individual. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial agency determinations are contained in 32 CFR part 310, or may be obtained from the system manager.

NOTIFICATION PROCEDURES:

Individuals seeking to determine whether information about themselves is contained in this system should follow the instructions for Record Access Procedures above.

EXEMPTIONS PROMULGATED FOR THE SYSTEM:

The DoD has exempted records maintained in this system from 5 U.S.C. 552a(c)(3), (d)(1), (2), (3) and (4); (e)(1), (4)(G), (H), and (I); and (f) of the Privacy Act, pursuant to 5 U.S.C. 552a(k)(2), as applicable. In addition, when exempt records received from other systems of records become part of this system, the DoD also claims the same exemptions for those records that are claimed for the prior system(s) of records from which they were a part and claims any additional exemptions set forth here. An exemption rule for this system has been promulgated in accordance with the requirements of 5 U.S.C. 553(b)(1), (2), and (3), and (c), and published in 32 CFR part 310.

HISTORY:

None.

[FR Doc. 2023-23300 Filed 10-24-23; 8:45 am]

BILLING CODE 6001-FR-P